DEPARTMENT OF ENERGY

Federal Energy Regulatory Commission

[Project No. 2165-029]

Alabama Power Company; Notice of Availability of Environmental Assessment

In accordance with the National Environmental Policy Act of 1969 and the Federal Energy Regulatory Commission's regulations, 18 CFR part 380, the Office of Energy Projects has reviewed an application filed by Alabama Power Company on June 5, 2009, requesting Commission approval to permit Mr. Lynn Layton (permittee) to construct and operate three covered 10-slip boat docks and a concrete patio at Cushman's Marina, located on the Lewis Smith Development of the Warrior River Project (FERC No. 2165). The Lewis Smith Development is located on the headwaters of the Black Warrior River on the Sipsey Fork in Cullman, Walker, and Winston Counties, Alabama, and occupies 2,691.44 acres of Federal lands administered by the U.S. Forest Service. An environmental assessment (EA) has been prepared as a part of Commission staff's review. The EA evaluates the environmental impacts that would result from approving the licensee's proposal and alternatives, and finds that approval of the application would not constitute a major Federal action significantly affecting the quality of the human environment.

A copy of the EA is on file with the Commission and is available for public inspection. The EA may also be viewed on the Commission's Web site at http://www.ferc.gov using the “eLibrary” link. Enter the docket number (P-2165) excluding the last three digits in the docket number field to access the document. For assistance, contact FERC Online Support at FERCOnlineSupport@ferc.gov or toll-free at 1-866-208-3676, or for TTY, (202) 502-8659.

Any comments should be filed by March 31, 2011. Comments may be filed electronically via Internet in lieu of paper. The Commission strongly encourages electronic filings. See 18 CFR 385.2001(a)(1)(iii) and the instructions on the Commission's Web site under the “eFiling” link. To paper-file, comments should be addressed to Kimberly D. Bose, Secretary, Federal Energy Regulatory Commission, 888 First Street, NE., Room 1-A, Washington, DC 20426. Please reference the project name and project number (P-2165) on all comments.

For further information, contact Mark Carter at (678) 245-3083.

Dated: March 1, 2011.
Kimberly D. Bose,
Secretary.

[FR Doc. 2011-5204 Filed 3-7-11; 8:45 am]

BILLING CODE 6717-01-P